SECURITIES AND EXCHANGE COMMISSION

Sunshine Act Meetings

Notice is hereby given, pursuant to the provisions of the Government in the Sunshine Act, Public Law 94-409, that the Securities and Exchange Commission will hold the following meetings during the week of September 17, 2007:

An Open Meeting will be held on Wednesday, September 19, 2007 at 10 a.m., in the Auditorium, Room L-002. A Closed Meeting will be held on Thursday, September 20, 2007 at 2 p.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(3), (5), (7), (9)(B), and (10) and 17 CFR 200.402(a)(3), (5), (7), 9(ii) and (10), permit consideration of the scheduled matters at the Closed Meeting.

Commissioner Casey, as duty officer, voted to consider the items listed for the closed meeting in closed session.

The subject matter of the Open Meeting scheduled for Wednesday, September 19, 2007 at 10 a.m. will be:

1. The Commission will consider whether to adopt, jointly with the Board of Governors of the Federal Reserve System, new rules under the Securities Exchange Act of 1934 (“Exchange Act”) to implement the Gramm-Leach-Bliley Act bank exceptions to the definition of “broker.” In addition, the Commission will consider whether to adopt additional related rules and rule amendments, including rules exempting banks from the definition of “dealer” under the Exchange Act.

2. The Commission will consider whether to adopt, on an interim final basis, a temporary rule that would provide investment advisers who also are registered broker-dealers an alternative means of compliance with the principal trading restrictions of section 206(3) of the Investment Advisers Act.

The Commission will also consider whether to propose an interpretive rule under the Investment Advisers Act that would clarify the application of the Advisers Act to certain activities of broker-dealers.

The subject matter of the Closed Meeting scheduled for Thursday, September 20, 2007 will be:

Formal orders of investigations;

Institution and settlement of injunctive actions;

Institution and settlement of administrative proceedings of an enforcement nature;

Resolution of litigation claims;

Other matters related to enforcement proceedings; and

Adjudicatory matters.

At times, changes in Commission priorities require alterations in the scheduling of meeting items.

For further information and to ascertain what, if any, matters have been added, deleted or postponed, please contact:

The Office of the Secretary at (202) 551-5400.

Dated: September 12, 2007.
Florence E. Harmon,
Deputy Secretary.

[FR Doc. E7-18312 Filed 9-17-07; 8:45 am]

BILLING CODE 8010-01-P